DEPARTMENT OF THE INTERIOR

National Park Service

[NPS-WASO-NAGPRA-22110; PPWOCRADN0-PCU00RP14.R50000]

Notice of Inventory Completion: U.S. Department of the Interior, Bureau of Land Management, Nevada State Office, Reno, NV

AGENCY: National Park Service, Interior.

ACTION: Notice.

SUMMARY: The U.S. Department of the Interior, Bureau of Land Management (BLM), Nevada State Office, has completed an inventory of human remains and associated funerary objects recovered from Spirit Cave, NV, in consultation with the appropriate Indian tribes or Native Hawaiian organizations, and has determined that there is no cultural affiliation between the human remains and associated funerary objects and present-day Indian tribes or Native Hawaiian organizations. Representatives of any Indian tribe or Native Hawaiian organization not identified in this notice that wish to request transfer of control of the human remains and associated funerary objects should submit a written request to the BLM. If no additional requestors come forward, transfer of control of the human remains and associated funerary objects from Spirit Cave may proceed.

DATES: Representatives of any Indian tribe or Native Hawaiian organization that wish to request transfer of control of the human remains and associated funerary objects from Spirit Cave should submit a written request with information in support of the request to the BLM Nevada State Office, at the address in this notice by November 17, 2016.

ADDRESSES: John Ruhs, State Director, Bureau of Land Management, Nevada State Office, 1340 Financial Boulevard, Reno, NV 89502-7147, telephone (775) 861-6590, email jruhs@blm.gov.

SUPPLEMENTARY INFORMATION: Notice is here given in accordance with the Native American Graves Protection and Repatriation Act (NAGPRA), 25 U.S.C. 3003, of the completion of an inventory of human remains and associated funerary objects under the control of the BLM Nevada State Office, Reno, NV. The human remains and associated funerary objects were removed from Spirit Cave in Churchill County, NV.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the BLM Nevada State Office professional staff in consultation with representatives of the Comanche Nation, Oklahoma; Confederated Tribes of the Goshute Reservation, Nevada and Utah; Duckwater Shoshone Tribe of the Duckwater Reservation, Nevada; Ely Shoshone Tribe of Nevada; Fort McDermitt Paiute and Shoshone Tribes of the Fort McDermitt Indian Reservation, Nevada and Oregon; Las Vegas Tribe of Paiute Indians of the Las Vegas Indian Colony, Nevada; Lovelock Paiute Tribe of the Lovelock Indian Colony, Nevada; Moapa Band of Paiute Indians of the Moapa River Indian Reservation, Nevada; Paiute-Shoshone Tribe of the Fallon Reservation and Colony, Nevada; Pyramid Lake Paiute Tribe of the Pyramid Lake Reservation, Nevada; Reno-Sparks Indian Colony, Nevada; Shoshone-Paiute Tribes of the Duck Valley Reservation, Nevada; Summit Lake Paiute Tribe of Nevada; Te-Moak Tribe of Western Shoshone Indians of Nevada (Four constituent bands: Battle Mountain Band; Elko Band; South Fork Band and Wells Band); Walker River Paiute Tribe of the Walker River Reservation, Nevada; Washoe Tribe of Nevada & California (Carson Colony, Dresslerville Colony, Woodfords Community, Stewart Community, & Washoe Ranches); Winnemucca Indian Colony of Nevada; Yerington Paiute Tribe of the Yerington Colony & Campbell Ranch, Nevada; and Yomba Shoshone Tribe of the Yomba Reservation, Nevada.

History and Description of the Remains

In 1940, human remains representing, at minimum, four individuals and 10 associated funerary objects were removed from Spirit Cave in Churchill County, NV, on lands then owned by the United States and now administered by the BLM Nevada State Office. Sydney and Georgia Wheeler located Spirit Cave during salvage excavations conducted by the Nevada State Parks Commission in and around the Lahontan Basin of western Nevada and made collections from the site. This “Spirit Cave Assemblage” was then curated at the Nevada State Museum in Carson City, NV. The human remains consist of one intact, well-preserved mummified skeleton of an adult male, aged 40-44 years (Spirit Cave Burial #2; NSM Catalog # Ahur 2064; commonly referred to as the “Spirit Cave mummy”); one cremation burial (NSM Catalog #'s Ahur 752 and Ahur 773); one adult female, aged 30-35 years (NSM # Ahur 770); and a subadult male, aged approximately 15 years (NSM # Ahur 748). No known individuals were identified. The 10 associated funerary objects are one outer mat, one inner mat, two leather moccasins, one rabbit skin blanket, three woven bags, and two mat fragments. Radiocarbon dating estimates the age of the human remains to be between 5,400 to 10,600 years ago.

DNA analysis illustrates that the human remains in the Spirit Cave Assemblage are effectively more closely related to Native Americans than they are to any other population. The associated funerary objects contained within the Spirit Cave Assemblage manifest characteristics of Native American ancestry, including a rabbit skin blanket, moccasins, and woven mats. These cultural items are consistent with the raw materials used and the general types of items manufactured throughout the prehistory of the Great Basin. Therefore, the BLM Nevada State Office has determined that the human remains are Native American.

While there are similarities in material culture between items buried with the individuals that are part of the Spirit Cave Assemblage and the Northern Paiute peoples, such as the rabbit skin blanket, these similarities are at a general Numic pattern within the Great Basin that includes many tribes (“Numic pattern” refers to items or objects similarly made by multiple tribes of Paiute, Shoshone, Ute, and Goshute peoples who all share a common language group). The manufacturing of rabbit skin blankets, woven mats, and moccasins are all material items made by multiple tribes across the Great Basin, both past and present. Oral tradition suggests that while the Northern Paiute tribes originated in the region from which Spirit Cave is located, at least one other non-Paiute tribe once occupied the region as well. The available archeological and material culture evidence suggests that the Northern Paiute peoples and their associated modern tribes may have occupied the central Great Basin by 3,000 years ago, although there is no similar evidence which places them in the western Great Basin at this time. The DNA results also do not provide evidence that the Spirit Cave individuals were a distinct biological group from other groups of that age. Additionally, the age and small sample size of the Spirit Cave Assemblage does not provide sufficient evidence from which BLM can determine that the Spirit Cave individuals were part of a an identifiable earlier cultural group, pursuant to NAGPRA 43 CFR 10.14(c)(2). BLM cannot determine cultural affiliation of the Spirit Cave Assemblage.

Determinations Made by the BLM Nevada State Office

Officials of the BLM Nevada State Office have determined that:

• Pursuant to 25 U.S.C. 3001(9), the human remains described in this notice are Native American.

• Pursuant to 25 U.S.C. 3001(9), the human remains described in this notice represent the physical remains of four individuals of Native American ancestry.

• Pursuant to 25 U.S.C. 3001(3)(A), the 10 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgements of the Indian Claims Commission, the land from which the Native American human remains and associated funerary objects were removed is the aboriginal land of the Northern Paiute, represented by the Fort McDermitt Paiute and Shoshone Tribes of the Fort McDermitt Indian Reservation, Nevada and Oregon; Lovelock Paiute Tribe of the Lovelock Indian Colony, Nevada; Paiute-Shoshone Tribe of the Fallon Reservation and Colony, Nevada; Pyramid Lake Paiute Tribe of the Pyramid Lake Reservation, Nevada; Reno-Sparks Indian Colony, Nevada; Summit Lake Paiute Tribe of Nevada; Walker River Paiute Tribe of the Walker River Reservation, Nevada; Winnemucca Indian Colony of Nevada; and Yerington Paiute Tribe of the Yerington Colony & Campbell Ranch, Nevada.

• Pursuant to 43 CFR 10.11(c)(1), the disposition of the human remains and associated funerary objects may be to the Fort McDermitt Paiute and Shoshone Tribes of the Fort McDermitt Indian Reservation, Nevada and Oregon; Lovelock Paiute Tribe of the Lovelock Indian Colony, Nevada; Paiute-Shoshone Tribe of the Fallon Reservation and Colony, Nevada; Pyramid Lake Paiute Tribe of the Pyramid Lake Reservation, Nevada; Reno-Sparks Indian Colony, Nevada; Summit Lake Paiute Tribe of Nevada; Walker River Paiute Tribe of the Walker River Reservation, Nevada; Winnemucca Indian Colony of Nevada; and Yerington Paiute Tribe of the Yerington Colony & Campbell Ranch, Nevada.

• Pursuant to 43 CFR 10.11(d), transfer of the human remains and associated funerary objects to the Paiute-Shoshone Tribe of the Fallon Reservation and Colony, Nevada, may proceed.

Additional Requestors and Disposition

Representatives of the Indian tribes that wish to request transfer of control of these human remains and associated funerary objects should submit a written request with information in support of the request to John Ruhs, State Director, Bureau of Land Management, Nevada State Office, 1340 Financial Boulevard, Reno, NV 89502-7147, telephone (775) 861-6590, email jruhs@blm.gov, by November 17, 2016. After that date, if no additional requestors have come forward, transfer of control of the human remains and associated funerary objects to the Paiute-Shoshone Tribe of the Fallon Reservation and Colony, Nevada may proceed.

The BLM Nevada State Office is responsible for notifying the Fort McDermitt Paiute and Shoshone Tribes of the Fort McDermitt Indian Reservation, Nevada and Oregon; Lovelock Paiute Tribe of the Lovelock Indian Colony, Nevada; Paiute-Shoshone Tribe of the Fallon Reservation and Colony, Nevada; Pyramid Lake Paiute Tribe of the Pyramid Lake Reservation, Nevada; Reno-Sparks Indian Colony, Nevada; Summit Lake Paiute Tribe of Nevada; Walker River Paiute Tribe of the Walker River Reservation, Nevada; Winnemucca Indian Colony of Nevada; and Yerington Paiute Tribe of the Yerington Colony & Campbell Ranch, Nevada that this notice has been published.

Dated: October 5, 2016.
Melanie O'Brien,
Manager, National NAGPRA Program.

[FR Doc. 2016-25128 Filed 10-17-16; 8:45 am]

BILLING CODE 4312-52-P